DEPARTMENT OF VETERANS AFFAIRS

Funding Availability Under Supportive Services for Veteran Families Program

AGENCY: Veterans Health Administration, Department of Veterans Affairs.

ACTION: Notice; correction.

SUMMARY: The Department of Veterans Affairs (VA) published a Notice of Funding Availability in the Federal Register on October 10, 2014, that contained an error. Specifically, it incorrectly stated the phone number for the VA point of contact, John Kuhn. The correct phone number is (877) 737-0111.

Dated: October 17, 2014.
William F. Russo,
Acting Director, Office of Regulation Policy & Management, Office of the General Counsel, Department of Veterans Affairs.

[FR Doc. 2014-25096 Filed 10-21-14; 8:45 am]

BILLING CODE 8320-01-P